UNITED STATES AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will occur at the USADF office.

DATES: The meeting date is Tuesday, October 18, 2022, 9 a.m. to 11 a.m.

ADDRESSES: The meeting location is USADF, 1400 I St. NW, Suite 1000, Washington, DC 20005.

FOR FURTHER INFORMATION CONTACT: Brandi James, (202) 233-8866.

Authority: Public Law 96-533 (22 U.S.C. § 290h).

Dated: October 11, 2022.
Solomon Chi,
Chief Information Officer, U.S. African Development Foundation.

[FR Doc. 2022-22551 Filed 10-17-22; 8:45 am]

BILLING CODE 6117-01-P